ENVIRONMENTAL PROTECTION AGENCY

[ER-FRL-6608-3]

Environmental Impact Statements and Regulations; Availability of EPA Comments

Availability of EPA comments prepared May 29, 2000 through June 02, 2000 pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. RD-FRA-A53055-00 Rating EC2, Proposed Rule for the Use of Locomotive Horns at Highway-Rail Grade Crossings in the United States.

Summary: EPA expressed concern regarding the lack of information on funding the quiet zones and requested that more flexibility be provided to those communities that have existing quiet zones.

Final EISs

ERP No. F-UAF-E11046-FL Tyndall Air Force Base, Implementation, Proposed Conversion of Two F-15 Fighter Squadrons to F-22 Fighter Squadrons, FL.

Summary: EPA believes that the proposed action will not pose significant and/or long-term adverse environmental consequences.

Dated: June 13, 2000.
Ken Mittelholtz,
Environmental Protection Specialist, Office of Federal Activities.

[FR Doc. 00-15302 Filed 6-15-00; 8:45 am]

BILLING CODE 6560-50-U